SUSQUEHANNA RIVER BASIN COMMISSION

Actions Taken at December 8, 2016, Meeting

AGENCY: Susquehanna River Basin Commission.

ACTION: Notice.

SUMMARY: As part of its regular business meeting held on December 8, 2016, in Annapolis, Maryland, the Commission took the following actions: (1) Approved the applications of certain water resources projects; (2) accepted settlements in lieu of penalties from Panda Hummel Station LLC, Panda Liberty LLC, Panda Patriot LLC, and Montage Mountain Resorts, LP; and (3) took additional actions, as set forth in the SUPPLEMENTARY INFORMATION below.

DATES: The business meeting was held on December 8, 2016. Comments on the proposed consumptive use mitigation policy may be submitted to the Commission on or before January 30, 2017.

ADDRESSES: Comments may be mailed to: Jason E. Oyler, Esq., General Counsel, Susquehanna River Basin Commission, 4423 N. Front Street, Harrisburg, PA 17110-1788, or submitted electronically at http://mdw.srbc.net/ProposedRulemakingSeptember2016/.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of a resolution urging President-elect Trump and the United States Congress to provide full funding for the Groundwater and Streamflow Information Program, thereby supporting the Susquehanna Flood Forecast & Warning System; (2) approval/ratification of a contract and two agreements; (3) approval to extend the comment deadline for the Consumptive Use Mitigation Policy to January 30, 2017; (4) a report on delegated settlements with the following project sponsors, pursuant to SRBC Resolution 2014-15: Lewistown Borough Municipal Authority, in the amount of $5,250; Columbia Water Company, in the amount of $7,500; Eagle Lake Community Association, in the amount of $7,500; and Fox Hills Country Club, in the amount of $5,000; and (5) approval to extend the term of an emergency certificate with Hazleton City Authority to December 8, 2017.

Compliance Matters

The Commission approved settlements in lieu of civil penalties for the following projects:

1. Panda Hummel Station LLC, Hummel Station, Shamokin Dam Borough and Monroe Township, Snyder County, Pa.—$22,750.

2. Panda Liberty LLC, Liberty Station, Asylum Township, Bradford County, Pa.—$30,000.

3. Panda Patriot LLC, Clinton Township, Lycoming County, Pa.—$44,250.

4. Montage Mountain Resorts, LP, City of Scranton, Lackawanna County, Pa.—$72,000.

Project Applications Approved

The Commission approved the following project applications:

1. Project Sponsor and Facility: Cabot Oil & Gas Corporation (Bowman Creek), Eaton Township, Wyoming County, Pa. Renewal of surface water withdrawal of up to 0.290 mgd (peak day) (Docket No. 20121201).

2. Project Sponsor and Facility: Cabot Oil & Gas Corporation (Susquehanna River), Susquehanna Depot Borough, Susquehanna County, Pa. Renewal with modification of surface water withdrawal of up to 1.500 mgd (peak day) (Docket No. 20120903).

3. Project Sponsor and Facility: Chester Water Authority, East and West Nottingham Townships, Chester County, Pa. Interconnection with the Town of Rising Sun of up to 1.800 mgd (peak day).

4. Project Sponsor and Facility: Conyngham Borough Authority, Sugarloaf Township, Luzerne County, Pa. Groundwater withdrawal of up to 0.120 mgd (30-day average) from Well 6.

5. Project Sponsor: Exelon Generation Company, LLC. Project Facility: Muddy Run Pumped Storage Project, Drumore and Martic Townships, Lancaster County, Pa. Authorization for continued operation under Section 801.12 of an existing hydroelectric facility.

6. Project Sponsor: Future Power PA, LLC. Project Facility: Good Spring NGCC, Porter Township, Schuylkill County, Pa. Consumptive water use of up to 0.063 mgd (peak day).

7. Project Sponsor: Future Power PA, LLC. Project Facility: Good Spring NGCC, Porter Township, Schuylkill County, Pa. Groundwater withdrawal of up to 0.252 mgd (30-day average) from Well RW-1.

8. Project Sponsor: Future Power PA, LLC. Project Facility: Good Spring NGCC, Porter Township, Schuylkill County, Pa. Groundwater withdrawal of up to 0.252 mgd (30-day average) from Well RW-2.

9. Project Sponsor and Facility: Gilberton Power Company, West Mahanoy Township, Schuylkill County, Pa. Renewal of consumptive water use of up to 1.510 mgd (peak day) (Docket No. 19851202).

10. Project Sponsor and Facility: Gilberton Power Company, West Mahanoy Township, Schuylkill County, Pa. Groundwater withdrawal of up to 1.870 mgd (30-day average) from the Gilberton Mine Pool.

11. Project Sponsor and Facility: Keystone Clearwater Solutions, LLC (Moshannon Creek), Snow Shoe Township, Centre County, Pa. Renewal of surface water withdrawal of up to 0.999 mgd (peak day) (Docket No. 20120910).

12. Project Sponsor: Lycoming County Water and Sewer Authority. Project Facility: Halls Station System, Muncy Township, Lycoming County, Pa. Groundwater withdrawal of up to 0.158 mgd (30-day average) from Well PW-1.

13. Project Sponsor and Facility: Moxie Freedom LLC, Salem Township, Luzerne County, Pa. Minor modification to add a new source (Production Well 2) to existing consumptive use approval (no increase requested in consumptive use quantity) (Docket No. 20150907).

14. Project Sponsor and Facility: Moxie Freedom LLC, Salem Township, Luzerne County, Pa. Groundwater withdrawal of up to 0.062 mgd (30-day average) from Production Well 2.

15. Project Sponsor and Facility: Town of Nichols, Tioga County, N.Y. Groundwater withdrawal of up to 0.250 mgd (30-day average) from Well PW-1.

16. Project Sponsor and Facility: Town of Nichols, Tioga County, N.Y. Groundwater withdrawal of up to 0.250 mgd (30-day average) from Well PW-2.

17. Project Sponsor and Facility: Town of Rising Sun, Rising Sun District, Cecil County, Md. Interconnection with the Chester Water Authority of up to 1.800 mgd (peak day).

18. Project Sponsor and Facility: Sunoco Pipeline, L.P. (Conodoguinet Creek), North Middleton Township, Cumberland County, Pa. Surface water withdrawal of up to 2.880 mgd (peak day).

19. Project Sponsor and Facility: Sunoco Pipeline, L.P. (Frankstown Branch Juniata River), Frankstown Township, Blair County, Pa. Surface water withdrawal of up to 2.880 mgd (peak day).

20. Project Sponsor and Facility: Sunoco Pipeline, L.P. (Susquehanna River), Highspire Borough and Lower Swatara Township, Dauphin County, Pa. Surface water withdrawal of up to 2.880 mgd (peak day).

21. Project Sponsor and Facility: Sunoco Pipeline, L.P. (Swatara Creek), Londonderry Township, Dauphin County, Pa. Surface water withdrawal of up to 2.880 mgd (peak day).

22. Project Sponsor and Facility: Sunoco Pipeline, L.P. (Tuscarora Creek), Lack Township, Juniata County, Pa. Surface water withdrawal of up to 2.880 mgd (peak day).

23. Project Sponsor and Facility: SWEPI LP (Cowanesque River), Deerfield Township, Tioga County, Pa. Surface water withdrawal of up to 2.000 mgd (peak day).

24. Project Sponsor and Facility: Transcontinental Gas Pipe Line Company, LLC. Project: Atlantic Sunrise (Fishing Creek), Hemlock Township, Columbia County, Pa. Surface water withdrawal of up to 2.880 mgd (peak day).

25. Project Sponsor and Facility: Transcontinental Gas Pipe Line Company, LLC. Project: Atlantic Sunrise (Fishing Creek), Hemlock Township, Columbia County, Pa. Consumptive water use of up to 0.100 mgd (peak day).

Project Applications Approved Involving a Diversion

The Commission approved the following project applications involving a diversion:

1. Project Sponsor and Facility: Gilberton Power Company, West Mahanoy Township, Schuylkill County, Pa. Into-basin diversion from the Delaware River Basin of up to 0.099 mgd (peak day) from Wells AN-P03 and AN-P04.

2. Project Sponsor and Facility: JKLM Energy, LLC, Roulette Township, Potter County, Pa. Into-basin diversion from the Ohio River Basin of up to 1.100 mgd (peak day) from the Goodwin and Son's Sand and Gravel Quarry.

Authority: Pub. L. 91-575, 84 Stat. 1509 et seq., 18 CFR parts 806, 807, and 808.

Dated: December 20, 2016.
Stephanie L. Richardson,
Secretary to the Commission.

[FR Doc. 2016-30963 Filed 12-22-16; 8:45 am]

BILLING CODE 7040-01-P